DEPARTMENT OF TRANSPORTATION

Federal Aviation Administration

14 CFR Part 71

[Docket No. FAA-2014-0279; Airspace Docket No. 14-ANM-3]

Modification of Class D and Class E Airspace; Pasco, WA

AGENCY: Federal Aviation Administration (FAA), DOT.

ACTION: Final rule.

SUMMARY: This action modifies the Class D and Class E airspace at Tri-Cities Airport, Pasco, WA. Controlled airspace is necessary to accommodate the new Area Navigation (RNAV) Global Positioning System (GPS) standard instrument approach procedures at the airport. This action, initiated by the biennial review of the Pasco, WA, enhances the safety and management of IFR operations at the airport.

DATES: Effective 0901 UTC, August 20, 2015. The Director of the Federal Register approves this incorporation by reference action under title 1, Code of Federal Regulations, part 51, subject to the annual revision of FAA Order 7400.9 and publication of conforming amendments.

ADDRESSES: FAA Order 7400.9Y, Airspace Designations and Reporting Points, and subsequent amendments can be viewed on line at http://www.faa.gov/airtraffic/publications/. The Order is also available for inspection at the National Archives and Records Administration (NARA). For information on the availability of this material at NARA, call 202-741-6030, or go to http://www.archives.gov/federal_register/code_of_federal-regulations/ibr_locations.html.

FAA Order 7400.9, Airspace Designations and Reporting Points, is published yearly and effective on September 15. For further information, you can contact the Airspace Policy and ATC Regulations Group, Federal Aviation Administration, 800 Independence Avenue SW., Washington, DC 29591; telephone: 202-267-8783.

FOR FURTHER INFORMATION CONTACT: Richard Roberts, Federal Aviation Administration, Operations Support Group, Western Service Center, 1601 Lind Avenue SW., Renton, WA 98057; telephone (425) 203-4517.

SUPPLEMENTARY INFORMATION:

History

On July 3, 2014, the FAA published in the Federal Register a notice of proposed rulemaking (NPRM) to modify controlled airspace at Tri-Cities Airport, Pasco, WA (79 FR 37967). Interested parties were invited to participate in this rulemaking effort by submitting written comments on the proposal to the FAA. No comments were received.

Class D airspace and Class E airspace designations are published in paragraphs 5000, 6004 and 6005, respectively, of FAA Order 7400.9Y, dated August 6, 2014, and effective September 15, 2014, which is incorporated by reference in 14 CFR 71.1. The Class D and E airspace designations listed in this document will be published subsequently in that Order. Except for editorial corrections this rule is the same as published in the NPRM.

Availability and Summary of Documents for Incorporation by Reference

This document amends FAA Order 7400.9Y, airspace Designations and Reporting Points, dated August 6, 2014, and effective September 15, 2014. FAA Order 7400.9Y is publicly available as listed in the ADDRESSES section of this final rule. FAA Order 7400.9Y lists Class A, B, C, D, and E airspace areas, air traffic service routes, and reporting points.

The Rule

This amendment to Title 14, Code of Federal Regulations (14 CFR) part 71 modifies Class D airspace, Class E surface airspace, and Class E airspace extending upward from 700 feet above the surface at Tri-Cities Airport, Pasco, WA. After a biennial review of the airspace, the FAA found modification of the airspace necessary for the safety and management of aircraft departing and arriving under IFR operations at the airport. The Class D airspace area is expanded from the existing 4.3 miles to 4.8 miles, west of the airport, from the 255° radial to the 12° radial, and two segments extending 5.8 miles southwest and northeast of the airport is added. The cutout of the Class D airspace area for Vista Airport is eliminated, as Vista Airport is closed. The Class E surface airspace is adjusted to coincide with the dimensions of the Class D airspace area. Class E airspace designated as an extension to the Class D and Class E surface area is removed as it is no longer needed for IFR operations. The Class E airspace extending 700 feet above the surface is decreased to an 11-mile radius of the airport with segments extending from the 11-mile radius to 13 miles northeast and southeast of the airport, and a segment 4 miles south and 9 miles north of a 226° bearing from the airport extending to 15 miles southwest of the airport. These actions are necessary to accommodate RNAV (GPS) standard instrument approach procedures at the airport.

The FAA has determined that this regulation only involves an established body of technical regulations for which frequent and routine amendments are necessary to keep them operationally current, is non-controversial and unlikely to result in adverse or negative comments. It, therefore, (1) is not a “significant regulatory action” under Executive Order 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, does not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends controlled airspace at Tri-Cities Airport, Pasco, WA.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment

Lists of Subjects in 14 CFR Part 71

Airspace, Incorporation by reference, Navigation (air).

Adoption of the Amendment:

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for Part 71 continues to read as follows:

Authority: 49 U.S.C. 106(f), 106(g) 40103, 40113, 40120; E.O. 10854, 24 FR 9565, 3 CFR, 1959-1963 Comp., p. 389.

§ 71.1 [Amended]

2. The incorporation by reference in 14 CFR 71.1 of FAA Order 7400.9Y, Airspace Designations and Reporting Points, dated August 6, 2014, and effective September 15, 2014, is amended as follows:

Paragraph 5000 Class D Airspace.

* * * * *

ANM WA D Pasco, WA [Modified]

Pasco, Tri-Cities Airport, WA

(Lat. 46°15′53″ N., long. 119°07′09″ W.)

That airspace extending upward from the surface to and including 2,900 feet MSL within a 4.3-mile radius of Tri-Cities Airport, and that airspace within a 4.8-mile radius of the airport from the 256° bearing from the airport clockwise to the 11° bearing from the airport, and that airspace within a 5.8-mile radius of the airport from the 11° bearing from the airport clockwise to the 83° bearing from the airport, and within a 5.8-mile radius of the airport from the 213° bearing clockwise to the 256° bearing from the airport. This Class D airspace area is effective during the specific dates and times established in advance by a Notice to Airmen. The effective date and time will thereafter be continuously published in the Airport/Facility Directory.

Paragraph 6002 Class E airspace designated as surface areas.

* * * * *

ANM WA E2 Pasco, WA [Modified]

Pasco, Tri-Cities Airport, WA

(Lat. 46°15′53″ N., long. 119°07′09″ W.)

That airspace extending upward from the surface within a 4.3-mile radius of Tri-Cities Airport and that airspace within 4.8-mile radius of the airport from the 256° bearing from the airport clockwise to the 11° bearing from the airport and that airspace within a 5.8-mile radius of the airport from the 11° bearing from the airport clockwise to the 83° bearing from the airport and within 5.8-mile radius of the airport from 213° bearing clockwise to the 256° bearing from the airport. This Class D airspace area is effective during the specific dates and times established in advance by a Notice to Airmen. The effective date and time will thereafter be continuously published in the Airport/Facility Directory.

Paragraph 6004 Class E airspace areas designated as an extension to Class D or Class E surface area.

* * * * *

ANM WA E4 Pasco, WA [Removed]

Paragraph 6005 Class E airspace areas extending upward from 700 feet or more above the surface of the earth.

* * * * *

ANM WA E5 Pasco, WA [Modified]

Pasco, Tri-Cities Airport, WA

(Lat. 46°15′53″ N., long. 119°07′09″ W.)

That airspace extending upward from 700 feet above the surface within 7.8-mile radius of the Tri-Cities Airport, and that airspace within an 11-mile radius of the airport from the 265° bearing from the airport clockwise to 16° bearing from the airport, and that airspace from the 54° bearing from the airport clockwise to the 112° from the airport, and that airspace 3.5 miles either side of the 35° bearing of the airport extending from the 11-mile radius to 13 mile northeast of the airport, and that airspace and that airspace 4.0 miles either side of the 133° bearing extending from the airport to 13 miles southeast of the airport, and that airspace 4 miles southeast and 9 miles northwest of the 226° bearing from the airport extending from the airport 15 miles southwest; that airspace extending upward from 1,200 feet above the surface bounded by a line beginning at lat. 45°49′00″ N., long. 118°00′00″ W.; to lat. 45°49′00″ N., long. 119°45′00″ W.; to lat. 47°00′00″ N., long. 119°45′00″ W.; to lat. 47°00′00″ N., long. 118°00′00″ W.; thence to the point of origin.

Issued in Seattle, Washington, on May 8, 2015.
Christopher Ramirez,
Acting Manager, Operations Support Group, Western Service Center.

[FR Doc. 2015-12019 Filed 5-18-15; 8:45 am]

BILLING CODE 4910-13-P